DEPARTMENT OF COMMERCE

Foreign-Trade Zones Board

[B-76-2015]

Foreign-Trade Zone (FTZ) 238—Dublin, Virginia, Notification of Proposed Production Activity, CEI-Roanoke, LLC, (Cosmetics and Personal Care Products Bottling), Roanoke, Virginia

The New River Valley Economic Development Alliance, grantee of FTZ 238, submitted a notification of proposed production activity to the FTZ Board on behalf of CEI-Roanoke, LLC (CEI), located in Roanoke, Virginia. The notification conforming to the requirements of the regulations of the FTZ Board (15 CFR 400.22) was received on November 6, 2015.

The CEI facility is located at 4411 Plantation Road NE., Roanoke, Virginia. A separate application for subzone designation at the CEI facility has been submitted and will be processed under Section 400.31 of the FTZ Board's regulations. The facility is used for the bottling of cosmetics and personal care products. Pursuant to 15 CFR 400.14(b), FTZ activity would be limited to the specific foreign-status materials and components and specific finished products described in the submitted notification (as described below) and subsequently authorized by the FTZ Board.

Production under FTZ procedures could exempt CEI from customs duty payments on the foreign status components used in export production. On its domestic sales, CEI would be able to choose the duty rates during customs entry procedures that apply to bottles of cosmetics and personal care products (skin protection creams/lotions, shampoos and conditioners, hair sprays, deodorant/antiperspirants, after shave lotions, make-ups, exfoliants, skin preparations, cleansers, bath preparations, teeth whiteners, and moisturizing creams) (duty rate ranges from free to 5.8%) for the foreign status components noted below. Customs duties also could possibly be deferred or reduced on foreign status production equipment.

The components sourced from abroad include: Plastic bottles/containers/caps/lids/bottle collars/jars/tubes; glass bottles; decorative charms on chains; metal bottle collars/caps/lids; scent sprayers; and, scent pumps (duty rate ranges from free to 5.3%).

Public comment is invited from interested parties. Submissions shall be addressed to the FTZ Board's Executive Secretary at the address below. The closing period for their receipt is December 28, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: November 9, 2015.
Elizabeth Whiteman,
Acting Executive Secretary.

[FR Doc. 2015-29366 Filed 11-16-15; 8:45 am]

BILLING CODE 3510-DS-P